DEPARTMENT OF THE TREASURY

Internal Revenue Service

26 CFR Part 1

[TD 8916]

RIN 1545-AY29

Application of Section 904 to Income Subject to Separate Limitations and Section 864(e) Affiliated Group Expense Allocation and Apportionment Rules; Correction

AGENCY: Internal Revenue Service (IRS), Treasury.

ACTION: Correction to final and temporary regulations.

SUMMARY: This document contains corrections to final and temporary regulations that were published in the Federal Register on Wednesday, January 3, 2001 (66 FR 268) relating to the section 864(e)(5) and (6) rules on affiliated group interest and other expense allocation and other expense allocation and apportionment and to the section 904(d) foreign tax credit limitation.

DATES: This correction is effective January 3, 2001.

FOR FURTHER INFORMATION CONTACT: Bethany A. Ingwalson (202) 622-3850 (not a toll-free number).

SUPPLEMENTARY INFORMATION:

Background

The final and temporary regulations that are the subject of these corrections are under section 864 and 904 of the Internal Revenue Code.

Need for Correction

As published, the final and temporary regulations contain errors that may prove to be misleading and are in need of clarification.

Correction of Publication

Accordingly, the publication of the final and temporary regulations (TD 8916), that were the subject of FR Doc. 00-32477, is corrected as follows:

1. On page 268, column 3, in the preamble in the caption DATES under the “Applicability Dates:” paragraph heading, first full paragraph, line 6 and 7, the language “9(h)(5)(i) and (ii), § 1.861-11(d)(8), and § 1.861-14(d)(1), (d)(2)(i), and (d)(2)(ii)” is corrected to read “9(h)(5)(iii), § 1.861-11(d)(2)(iv) and (d)(7), and § 1.861-14(d)(1) and (d)(2)(iii)”.

§ 1.904-4 [Corrected]

2. On page 276, column 3, § 1.904-4, paragraph (g)(3)(ii)(C), line 6, the language “determination whether a distribution” is corrected to read “determination of whether a distribution”.

Cynthia E. Grigsby,
Chief, Regulations Unit, Office of Special Counsel (Modernization and Strategic Planning).

[FR Doc. 01-7165 Filed 3-22-01; 8:45 am]

BILLING CODE 4830-01-P